DEPARTMENT OF TRANSPORTATION

Federal Aviation Administration

14 CFR Part 71

[Docket No. FAA-2022-0347; Airspace Docket No. 22-AWA-1]

RIN 2120-AA66

Amendment of Class B Airspace; Kansas City, MO

AGENCY: Federal Aviation Administration (FAA), DOT.

ACTION: Final rule.

SUMMARY: This action amends the Kansas City, MO, Class B airspace description to update the Kansas City International Airport airport reference point (ARP) geographic coordinates information, the Noah's Ark Private Airport airport name, and the Fort Leavenworth, Sherman Army Airfield airport name and ARP geographic coordinates information to match the FAA's aeronautical database. Additionally, this action amends the Class B airspace header information and sub-area descriptions for clarity and readability and to match the charted airspace. This action does not change the Class B airspace's boundaries, altitudes, or operating requirements.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates airport names and ARP geographic coordinates information contained in the Kansas City, MO, Class B airspace description, and corrects the Class B subarea descriptions.

History

The primary purpose of a Class B airspace area is to reduce the potential for midair collisions in the airspace surrounding airports with high density air traffic operations by providing an area in which all aircraft are subject to certain operating rules and equipment requirements. The configuration of each Class B airspace area is individually tailored and consists of a surface area and two or more airspace shelves, and is designed to contain all published instrument procedures. An air traffic control (ATC) clearance is required for all aircraft to operate in the area, and all aircraft that receive clearance receive separation services within the area.

During a recent review of the Kansas City, MO, Class B airspace, the FAA identified that the Kansas City International Airport ARP geographic coordinates information are incorrect, the Noah's Ark Private Airport name is incorrect, and the Fort Leavenworth, Sherman Army Airfield name and ARP geographic coordinates are incorrect in the Class B airspace description. This action updates the ARP geographic coordinates information and airport names to coincide with the FAA's aeronautical database information. There are no changes to the Class B airspace's boundaries, altitudes, or operating requirements.

Class B airspace areas are published in paragraph 3000 of FAA Order JO 7400.11F, dated August 10, 2021, and effective September 15, 2021, which is incorporated by reference in 14 CFR 71.1. The Class B airspace listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending the Kansas City, MO, Class B airspace description to update the incorrect ARP geographic coordinates information and airport names contained in the description. The Kansas City International Airport ARP geographic coordinate information for the airport are changed from “lat. 39°17′57″ N, long. 94°43′05″ W″ to “lat. 39°17′51″ N, long. 094°42′50″ W″ the airport name “Noah's Ark Private Airport” is changed to “Noah's Ark Airport”; and the airport name “Fort Leavenworth, Sherman Army Airfield” is changed to “Sherman Army Airfield” with the associated ARP geographic coordinates information for the airport changed from “lat. 39°22′06″ N, long. 94°54′53″ W″ to “lat. 39°22′03″ N, long. 094°54′52″ W″. These changes to the ARP geographic coordinates information and airport names reflect the current information in the FAA's aeronautical database. Finally, this action amends the Class B airspace header information and subarea descriptions for clarity and readability and to match the charted airspace.

Accordingly, since this is an administrative change, and does not affect the boundaries, altitudes, or operating requirements of the airspace, notice and public procedures under 5 U.S.C. 553(b) are unnecessary. FAA Order JO 7400.11, Airspace Designations and Reporting Points, is published yearly and effective on September 15th.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action making administrative edits to the Kansas City, MO, Class B airspace description qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11F, Airspace Designations and Reporting Points, dated August 10, 2021, and effective September 15, 2021, is amended as follows:

Paragraph 3000 Class B Airspace.

ACE MO B Kansas City, MO

Kansas City International Airport, MO (Primary Airport)

(Lat. 39°17′51″ N, long. 094°42′50″ W)

Noah's Ark Airport, MO (Pvt)

(Lat. 39°13′50″ N, long. 094°48′16″ W)

Sherman Army Airfield, KS

(Lat. 39°22′03″ N, long. 094°54′52″ W)

Boundaries.

Area A. That airspace extending upward from the surface to and including 8,000 feet MSL within a 6-mile radius of the Kansas City International Airport, excluding that airspace within a 1-mile radius arc of Noah's Ark Airport and that airspace between the 4-mile radius arc and 6-mile radius arc of the Kansas City International Airport, bounded on the south by a line parallel to, and 2 miles north of the Kansas City International Airport Runway 9 ILS localizer course, and on the north by a line parallel to, and 2 miles west of the Kansas City International Airport Runway 19R ILS localizer course.

Area B. That airspace extending upward from 2,400 feet MSL to and including 8,000 feet MSL within a 10-mile radius of the Kansas City International Airport, excluding that airspace designated as Area A, that airspace within a 1½-mile radius arc of Sherman Army Airfield, and that airspace bounded by lat. 39°08′00″ N, long. 94°40′34″ W located on the 10-mile radius arc of the Kansas City International Airport, then northeastward to lat. 39°11′30″ N, long. 94°37′00″ W, then eastward to lat. 39°12′04″ N, long. 94°32′20″ W located on the 10-mile radius arc of the Kansas City International Airport, then clockwise along the 10-mile radius arc of the Kansas City International Airport to lat. 39°08′00″ N, long. 94°40′34″ W.

Area C. That airspace extending upward from 3,000 feet MSL to and including 8,000 feet MSL within a 15-mile radius of the Kansas City International Airport, excluding that airspace designated as Area A and Area B, and that airspace bounded by lat. 39°02′56″ N, long. 094°40′44″ W located at the intersection of Interstate Highway 635 and the 15-mile radius arc of the Kansas City International Airport, then northward to lat. 39°08′00″ N, long. 94°40′34″ W located on the 10-mile radius arc of the Kansas City International Airport, then northeastward to lat. 39°11′30″ N, long. 94°37′00″ W, then eastward over lat. 39°12′04″ N, long. 94°32′20″ W located on the 10-mile radius arc of the Kansas City International Airport to lat. 39°13′00″ N, long. 094°24′34″ W located on the 15-mile radius arc of the Kansas City International Airport, then clockwise along the 15-mile radius arc of the Kansas City International Airport to lat. 39°02′56″ N, long. 094°40′44″ W.

Area D. That airspace extending upward from 4,000 feet MSL to and including 8,000 feet MSL within a 20-mile radius of the Kansas City International Airport excluding that airspace designated as Area A, Area B, and Area C.

* * * * *

Issued in Washington, DC.
Scott M. Rosenbloom,
Manager, Rules and Regulations Group.

[FR Doc. 2022-10555 Filed 5-16-22; 8:45 am]

BILLING CODE 4910-13-P